DEPARTMENT OF HOUSING AND URBAN DEVELOPMENT

[Docket No. FR-5602-N-03]

Notice of Proposed Information Collection: Comment Request; Opinion by Counsel to the Mortgagor (FHA)

AGENCY: Office of the General Counsel, HUD.

ACTION: Notice.

SUMMARY: The proposed information collection requirement described below will be submitted to the Office of Management and Budget (OMB) for review, as required by the Paperwork Reduction Act. The Department is soliciting public comments on the subject proposal.

DATES: Comments Due Date: August 31, 2012.

ADDRESSES: Interested persons are invited to submit comments regarding this proposal. Comments should refer to the proposal by name and/or OMB Control Number and should be sent to: Reports Liaison Officer, Department of Housing and Urban Development, 451 7th Street SW., Washington, DC 20410, Room 10276.

FOR FURTHER INFORMATION CONTACT: Millicent Potts, Assistant General Counsel, Multifamily Mortgage Division, Office of General Counsel, Department of Housing and Urban Development, 451 7th Street SW., Room 9230, Washington, DC 20410, telephone (202) 708-4090 (this is not a toll free number). Copies of the form documents to be submitted to OMB for review can be obtained from Ms. Potts or from HUD's Web site: http://www.hud.gov/offices/adm/hudclips/forms/.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Opinion by Counsel to the Mortgagor (FHA).

OMB Control Number, if applicable: 2510-0010.

Description of the need for the information and proposed use: The opinion is required to provide comfort to HUD and the mortgagee in multifamily rental and health care facility mortgage insurance transactions.

Agency form numbers, if applicable: HUD-91725, 91725-instr, 91725-CERT.

Estimation of the total numbers of hours needed to prepare the information collection including number of respondents, frequency of response, and hours of response: As closings occur in connection with the aforementioned projects. The estimated number of respondents annually is 800, the estimated number of responses annually per respondent is 1, the number of estimated hours per response is 1, and the total estimated burden hours is 800.

Status of the proposed information collection: This is an extension of a currently approved collection.

Authority: The Paperwork Reduction Act of 1995, 44 U.S.C., Chapter 35, as amended.

Dated: June 27, 2012.
Camille E. Acevedo,
Associate General Counsel for Legislation and Regulations.

[FR Doc. 2012-16185 Filed 6-29-12; 8:45 am]

BILLING CODE 4210-67-P